DEPARTMENT OF TRANSPORTATION

Federal Aviation Administration

14 CFR Part 39

[Docket No. FAA-2006-25332; Directorate Identifier 2006-CE-40-AD; Amendment 39-14808; AD 2006-22-11]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as unsatisfactory initial elevator trim actuator greasing, which may lead to the icing of the elevator trim and generate an untrimmed nose-up attitude after an autopilot disconnection. We are issuing this AD to require actions to correct the unsafe condition on these products.

DATES: This AD becomes effective December 1, 2006.

The Director of the Federal Register approved the incorporation by reference of certain publications listed in this AD as of December 1, 2006.

ADDRESSES: You may examine the AD docket on the Internet at http://dms.dot.gov or in person at the Docket Management Facility, U.S. Department of Transportation, 400 Seventh Street, SW., Nassif Building, Room PL-401, Washington, DC.

FOR FURTHER INFORMATION CONTACT: Gunnar Berg, Aerospace Engineer, FAA, Small Airplane Directorate, 901 Locust, Room 301, Kansas City, Missouri 64106; telephone: (816) 329-4141; facsimile: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on June 19, 2006 (71 FR 35223). That NPRM proposed to require you to lubricate the elevator trim tab actuator rods without removal.

Comments

We gave the public the opportunity to participate in developing this AD. We considered the comments received.

The Modification and Replacement Parts Association (MARPA) provides comments to the MCAI AD process pertaining to how the FAA addresses publishing manufacturer service information as part of a proposed AD action. The commenter states that the rule, as proposed, attempts to require compliance with a public law by reference to a private writing (as referenced in paragraph (e) of the proposed AD). The commenter would like the FAA to incorporate by reference (IBR) the EADS SOCATA service bulletin.

We agree with the commenter. However, we do not IBR any document in a proposed AD action, instead we IBR the document in the final rule. Since we are issuing the proposal as a final rule AD action, EADS SOCATA TBM Aircraft Mandatory Service Bulletin SB70-124, Amendment 1, ATA No. 27, dated January 2005, is incorporated by reference.

MARPA requests IBR documents be made available to the public by publication in the Federal Register or in the Docket Management System (DMS).

We are currently reviewing issues surrounding the posting of service bulletins in the Department of Transportation's DMS as part of the AD docket. Once we have thoroughly examined all aspects of this issue and have made a final determination, we will consider whether our current practice needs to be revised.

Celine Rouge, an Airworthiness Engineer at EADS SOCATA, states the language used in paragraph (e)(2) of the proposed AD may be confusing. Paragraph (e)(2) specifies doing the action required in paragraph (e)(1) of the AD following EADS SOCATA TBM Aircraft Mandatory Service Bulletin SB70-124, Amendment 1, ATA No. 27, dated January 2005.

Celine Rouge states that in France, using the word “following” may lead people to believe they have to lubricate the elevator trim tab actuator rods without removal, which is the action required in paragraph (e)(1) of this AD, once more after they do the actions required in the service bulletin.

Celine Rouge requests we change the word “following” to “in accordance with.”

We use the word “following” and the phrase “in accordance with” interchangeably. We will change the final rule AD action to incorporate this wording.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow FAA policies. Any such differences are described in a separate paragraph of the AD. These requirements, if any, take precedence over the actions copied from the MCAI.

Costs of Compliance

We estimate that this AD will affect 256 products of U.S. registry. We also estimate that it will take about 1 work-hour per product to comply with this AD. The average labor rate is $80 per work-hour. Required parts will cost about $8 per product. Where the service information lists required parts costs that are covered under warranty, we have assumed that there will be no charge for these parts. As we do not control warranty coverage for affected parties, some parties may incur costs higher than estimated here. Based on these figures, we estimate the cost of this AD to the U.S. operators to be $22,528, or $88 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2006-22-11 EADS SOCATA: Amendment 39-14808; Docket No. FAA-2006-25332; Directorate Identifier 2006-CE-40-AD.

Effective Date

(a) This airworthiness directive (AD) becomes effective December 1, 2006.

Affected ADs

(b) None.

Applicability

(c) This AD applies to the following Model TBM 700 airplanes that are certificated in any U.S. category: Serial numbers 1 through 32, 34, 36 through 69, 71 through 76, 79, 81 through 92, 96 through 98, 101, 102, 107 through 109, 112 through 114, 116, 118 through 124, 126 through 130, 132 through 135, 137, 138, 140 through 145, 148 through 155, 157, 158, 161 through 268, and 270 through 304.

Reason

(d) The mandatory continuing airworthiness information (MCAI) states that the aircraft manufacturer has determined that unsatisfactory initial elevator trim actuator greasing may lead to the icing of the elevator trim and generate an untrimmed nose-up attitude after an autopilot disconnection. If not corrected, this condition could result in pitch-up, out-of-trim condition when the autopilot is disconnected.

Actions and Compliance

(e) Unless already done, do the following except as stated in paragraph (f) below.

(1) Within the next 25 hours time-in-service after December 1, 2006 (the effective date of this AD), lubricate the elevator trim tab actuator rods without removal.

(2) Do the action required in paragraph (e)(1) of the AD in accordance with EADS SOCATA TBM Aircraft Mandatory Service Bulletin SB70-124, Amendment 1, ATA No. 27, dated January 2005.

FAA AD Differences

(f) None.

Other FAA AD Provisions

(g) The following provisions also apply to this AD:

(1) Alternative Methods of Compliance (AMOCs): The Manager, Standards Staff, FAA, Small Airplane Directorate, ATTN: Gunnar Berg, Aerospace Engineer, 901 Locust, Room 301, Kansas City, Missouri 64106; telephone: (816) 329-4141; fax: (816) 329-4090, has the authority to approve AMOCs for this AD, if requested using the procedures found in 14 CFR 39.19.

(2) Return to Airworthiness: When complying with this AD, perform FAA-approved corrective actions before returning the product to an airworthy condition.

(3) Reporting Requirements: For any reporting requirement in this AD, under the provisions of the Paperwork Reduction Act, the Office of Management and Budget (OMB) has approved the information collection requirements and has assigned OMB Control Number 2120-0056.

Related Information

(h) This AD is related to French AD No. F-2005-034, Issue date: February 16, 2005, which references EADS SOCATA TBM Aircraft Mandatory Service Bulletin SB70-124, Amendment 1, ATA No. 27, dated January 2005.

Material Incorporated by Reference

(i) You must use EADS SOCATA TBM Aircraft Mandatory Service Bulletin SB70-124, Amendment 1, ATA No. 27, dated January 2005, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62.41.73.00; fax: 33 (0)5 62.41.76.54; or SOCATA Aircraft, INC., North Perry Airport, 7501 Airport Road, Pembroke Pines, Florida 33023; telephone: (954) 893-1400; fax: (954) 964-4141.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on October 19, 2006.
James E. Jackson,
Acting Manager, Small Airplane Directorate, Aircraft Certification Service.

[FR Doc. E6-17930 Filed 10-26-06; 8:45 am]

BILLING CODE 4910-13-P